DEPARTMENT OF HEALTH AND HUMAN SERVICES

Administration for Children and Families

Statement of Organization, Functions, and Delegations of Authority

AGENCY: Administration for Children and Families, HHS.

ACTION: Notice.

SUMMARY: Statement of Organization, Functions, and Delegations of Authority.

The Administration for Children and Families (ACF) has realigned the Office of Community Services (OCS). This notice announces the realignment of OCS functions to rename the Division of State Assistance to the Division of Community Assistance and establishes the Division of Social Services. It also consolidates the Division of Community Discretionary Programs and the Division of Community Demonstration Programs to establish the Division of Community Discretionary and Demonstration Programs.

FOR FURTHER INFORMATION CONTACT: Jeannie Chaffin, Director, Office of Community Services, 330 C Street SW., Washington, DC 20201, (202) 401-9333.

This notice amends Part K of the Statement of Organization, Functions, and Delegations of Authority of the Department of Health and Human Services (DHHS), Administration for Children and Families (ACF), as follows: Office of Community Services (OCS), as last amended by 767 FR 67198, November 4, 2002, the changes are as follows:

I. Under Chapter KG, Office of Community Services, delete KG in its entirety and replace with the following:

KG.00 Mission. The Office of Community Services (OCS) advises the Secretary, through the Assistant Secretary for Children and Families, on matters relating to community programs to promote economic self-sufficiency. OCS is responsible for administering programs that serve low-income and needy individuals and address the overall goal of economic security for individuals and families with low incomes and community improvement for distressed neighborhoods. OCS administers the Community Services Block Grant, Social Services Block Grant, and the Low Income Home Energy Assistance Block Grant programs. OCS also administers a variety of discretionary grant programs that foster family stability, economic security, responsibility and self-support, promote and provide services to homeless and individuals with low-income and develop new and innovative approaches to reduce the need for public assistance.

KG.10 Organization. The Office of Community Services is headed by a Director who reports directly to the Assistant Secretary for Children and Families. The office is organized as follows:

Office of the Director (KGA)

Division of Community Assistance (KGB)

Division of Energy Assistance (KGE)

Division of Community Discretionary and Demonstration Programs (KGG)

Division of Social Services (KGH)

KG.20 Functions. A. Office of the Director provides executive direction and leadership to the Office of Community Services (OCS) and coordinates all elements of the Office. The Deputy Director assists the Director in carrying out the responsibilities of the Office. Within the Office, the administrative staff assists the Director in managing the formulation and execution of program and salaries and expenses budgets, and in providing administrative, personnel and data processing support services.

B. Division of Energy Assistance administers the Low Income Home Energy Assistance program (LIHEAP) at the federal level. It develops guidelines, policies and regulations to provide direction to states, territories, Indian tribes and tribal organizations in administering LIHEAP. The Division of LIHEAP calculates state allotments and develops statistical information regarding state plan characteristics, energy consumption, state median income estimates, fuel costs, and housing and demographic characteristics. It prepares, analyzes and recommends specific proposals for new legislation; prepares reports as required by Congress; and identifies and develops research and evaluation priorities and assesses the impact of research and evaluation findings and statistical data in terms of program directions.

The Division of LIHEAP provides leadership in interpretation and application of federal program policy as it relates to compliance activities. The Division of LIHEAP reviews grantee applications and amendments; provides the Office of Administration, Division of Mandatory Grants with information necessary to issue grants; and investigates complaints. It provides assistance to states, tribes and territories in developing energy program policies and operational procedures; evaluates compliance of state and tribal policies and operations with statutory and regulatory requirements; and provides support in developing and implementing program improvements. The Division of LIHEAP assists states and other public and private organizations by providing training and technical assistance in areas related to home energy consumption.

C. Division of Community Assistance administers the Community Services Block Grant (CSBG). It is responsible for developing, updating and implementing regulations and policies for this program. It provides guidance, review, support and assistance to states and grantees on HHS policies, regulations, procedures and systems necessary to assure efficient program operation at the state, territorial and tribal levels.

The Division of CSBG is responsible for assessing compliance with the provisions reviewing and resolving formal complaints, reviewing and recommending approval or disapproval of waiver requests, and evaluating activities in the programs, as appropriate.

D. Division of Community Discretionary and Demonstration Programs administers a variety of discretionary grant programs that foster family stability, economic security, responsibility and self-support, and promote and provide services to low-income individuals. These programs are administered either through grants, contracts or jointly financed cooperative arrangements. Assistance may be provided to states, public and private non-profit organizations and community agencies to provide technical assistance, training and on-going services and activities of national, regional or state-wide significance. Assistance may also be provided to private, locally-initiated, non-profit community development corporations (or affiliates of such corporations). This assistance may be provided to address a variety of areas of interest, such as rural housing and community facilities, assistance to migrants and seasonal farm workers, recreational and educational activities for low-income youth, community food and nutrition, support programs for homeless individuals, job creation, and business development opportunities. The Division also administers continued-use-of-assets agreements between OCS and Community Development Corporations (CDCs).

This division also administers demonstration programs that develop new and innovative approaches to deal with the critical needs of the poor which are common to many communities, reduce welfare dependency, and create business and employment opportunities. These programs, including the Assets for Independence (AFI) program, are administered either through grants, contracts or jointly financed cooperative arrangements. In coordination with the Office of Planning, Research and Evaluation (OPRE), the Division oversees and monitors demonstration programs; evaluates projects for their effectiveness in order to replicate those which are most successful; and prepares reports on significant findings.

E. Division of Social Services administers the Social Services Block Grant (SSBG). It is responsible for developing, updating and implementing regulations and policies for this program. It provides guidance, review, support and assistance to states and grantees on HHS policies, regulations, procedures and systems necessary to assure efficient program operation at the state, territorial and tribal levels. The Division of Social Services is responsible for administering emergency supplemental disaster funding assessing compliance with the provisions of the SSBG program, reviewing and resolving formal complaints, reviewing and recommending approval or disapproval of waiver requests, and evaluating activities in the programs, as appropriate.

II. Continuation of Policy. Except as inconsistent with this reorganization, all statements of policy and interpretations with respect to organizational components affected by this notice within ACF, heretofore issued and in effect on this date of this reorganization are continued in full force and effect.

III. Delegation of Authority. All delegations and re-delegations of authority made to officials and employees of affected organizational components will continue in them or their successors pending further re-delegations, provided they are consistent with this reorganization.

IV. Funds, Personnel, and Equipment. Transfer of organizations and functions affected by this reorganization shall be accompanied in each instance by direct and support funds, positions, personnel, records, equipment, supplies, and other resources.

This reorganization will be effective upon date of signature.

Dated: August 19, 2016.
Mark H. Greenberg,
Acting Assistant Secretary for Children and Families.

[FR Doc. 2016-20400 Filed 8-24-16; 8:45 am]

BILLING CODE 4184-01-P